DEPARTMENT OF THE INTERIOR

Bureau of Land Management

[CO-923-1430-ET; COC-28810]

Public Land Order No. 7647; Revocation of 2 Secretarial Orders and 15 Executive Orders; Colorado

AGENCY: Bureau of Land Management, Interior.

ACTION: Public land order.

SUMMARY: This order revokes 2 Secretarial Orders and 15 Executive Orders insofar as they affect approximately 1,189,600 acres of public lands, National Forest System lands, and patented lands with federally-reserved mineral interests which were withdrawn for coal classifications in Colorado. These lands are no longer needed for the purpose for which they were withdrawn. This order will open the public lands to surface entry and nonmetalliferous mining, the National Forest System lands to such forms of disposition as may by law be authorized on National Forest System lands and to nonmetalliferous mining, and the federally-reserved mineral interests to nonmetalliferous mining.

EFFECTIVE DATE: November 21, 2005.

FOR FURTHER INFORMATION CONTACT: Doris E. Chelius, BLM Colorado State Office, 2850 Youngfield Street, Lakewood, Colorado 80215, 303-230-3706.

SUPPLEMENTARY INFORMATION: These withdrawals were made to protect the coal reserves for the United States. Coal was declared a leasable mineral by the Mineral Leasing Act and the protection from these withdrawals is no longer needed.

Order

By virtue of the authority vested in the Secretary of the Interior by section 204(a) of the Federal Land Policy and Management Act of 1976, 43 U.S.C. 1714 (2000), it is ordered as follows:

1. The Secretarial Orders of July 26, 1906, and February 11, 1910, as amended, which withdrew public lands, National Forest System lands, and private lands with federally-reserved mineral interests in Colorado to protect the coal reserves, are hereby revoked in their entireties.

2. The Executive Orders of October 10, 1906, July 7, 1910 (Colorado No. 1), September 2, 1910 (Colorado No. 2), September 14, 1910 (Colorado No. 4), January 14, 1911 (Colorado No. 6), January 28, 1911 (Colorado No. 7), December 16, 1911 (Colorado No. 8), December 16, 1911 (Colorado No. 9), May 28, 1912 (Colorado No. 10), March 17, 1913 (Colorado No. 11), January 24, 1914 (Colorado No. 12), October 14, 1915 (Colorado No. 13), and July 16, 1918 (No. 2915), as amended, which withdrew public lands, National Forest System lands, and private lands with federally-reserved mineral interests to protect the coal reserves, are hereby revoked in their entireties.

3. The Executive Orders of October 12, 1910 (Colorado No. 5) and October 13, 1910 (Colorado No. 4), which withdrew public lands, National Forest System lands, and private lands with federally-reserved mineral interests to protect coal reserves, are hereby revoked only insofar as they affect lands in Colorado.

The lands referenced in Paragraphs 1, 2, and 3 aggregate approximately 1,189,600 acres in Adams, Arapahoe, Archuleta, Boulder, Chaffee, Costilla, Delta, Denver, Douglas, Elbert, El Paso, Freemont, Garfield, Grand, Gunnison, Huerfano, Jackson, Jefferson, La Plata, Larimer, Lincoln, Los Animas, Mesa, Moffat, Montezuma, Montrose, Morgan, Ouray, Park, Pitkin, Pueblo, Rio Blanco, Routt, Saguache, Summit, and Weld Counties, and in the Grand Mesa, Gunnison, Routt, White River, and Uncompahgre National Forests. Copies of the withdrawal orders are available in the Colorado State Office at the address shown above.

4. At 9 a.m. on November 21, 2005, the public lands and interest in lands identified in Paragraphs 1, 2, and 3 will be opened to the operation of the public land laws generally, subject to valid existing rights, the provisions of existing withdrawals, other segregations of record, and the requirements of applicable law. All valid applications received at or after 9 a.m. on November 21, 2005, shall be considered as simultaneously filed at that time. Those received thereafter shall be considered in the order of filing.

5. At 9 a.m. on November 21, 2005, the National Forest System lands, the public lands, and the lands with federally-reserved mineral interests referenced in Paragraphs 1, 2, and 3 will be opened to nonmetalliferous location and entry under the United States mining laws, subject to valid existing rights, the provisions of existing withdrawals, other segregations of record, and the requirements of applicable law. Appropriation of any of the lands described in this order under the general mining laws prior to the date and time of restoration is unauthorized. Any such attempted appropriation, including attempted adverse possession under 30 U.S.C. 38 (2000), shall vest no rights against the United States. Acts required to establish a location and to initiate a right of possession are governed by State law where not in conflict with Federal law. The Bureau of Land Management will not intervene in disputes between rival locators over possessory rights since Congress has provided for such determination in local courts.

6. At 9 a.m. on November 21, 2005, the National Forest System lands identified in Paragraphs 1, 2, and 3 shall be opened to such forms of disposition as may by law be authorized on National Forest System lands, subject to valid existing rights, the provisions of existing withdrawals, other segregations of record, and the requirements of applicable law.

Dated: September 29, 2005.
Rebecca W. Watson,
Assistant Secretary—Land and Minerals Management.

[FR Doc. 05-21040 Filed 10-20-05; 8:45 am]

BILLING CODE 4310-JB-P